DEPARTMENT OF COMMERCE

International Trade Administration

[A-570-970]

Multilayered Wood Flooring From the People's Republic of China: Amended Final Results of Antidumping Duty Administrative Review; 2011-2012

AGENCY: Enforcement and Compliance, International Trade Administration, Department of Commerce.

SUMMARY: The Department of Commerce (“the Department”) is amending the final results of the 2011-2012 administrative review of the antidumping duty order on multilayered wood flooring (“MLWF”) from the People's Republic of China (“PRC”) to correct ministerial errors.¹ The period of review (“POR”) is May 26, 2011 through November 30, 2012.

¹ See Multilayered Wood Flooring From the People's Republic of China: Final Results of Antidumping Duty Administrative Review; 2011-2012, 79 FR 26712 (May 9, 2014) (“Final Results”), and accompanying Issues and Decision Memorandum (“I&D Memo”).

DATES: Effective Date: June 20, 2014.

FOR FURTHER INFORMATION CONTACT: Magd Zalok or James Martinelli, Enforcement and Compliance, Office IV, International Trade Administration, U.S. Department of Commerce, 14th Street and Constitution Avenue NW., Washington, DC 20230; telephone: (202) 482-4162 and (202) 482-2923, respectively.

SUPPLEMENTARY INFORMATION:

Background

On May 5, 2014, the Department disclosed to interested parties its calculations for the Final Results.² On May 8, 2014, we received ministerial error comments from Shanghai New Sihe Wood Co., Ltd. and Shanghai Shenlin Corporation. Moreover, on May 9, 2014, we received ministerial error comments from Fine Furniture and CAHP. On May 14, 2014, we received ministerial error rebuttal comments from Armstrong and Fine Furniture.

² The interested parties include: Armstrong Wood Products (Kunshan) Co., Ltd. (“Armstrong”), the Coalition for American Hardwood Parity (“CAHP”), Fine Furniture (Shanghai) Limited (“Fine Furniture”), Shanghai New Sihe Wood Co., Ltd., Shanghai Shenlin Corporation and Nanjing Minglin Wooden Industry Co. Ltd. (“Minglin”).

Scope of the Order

The merchandise covered by the order includes MLWF, subject to certain exceptions.³ The subject merchandise is currently classifiable under Harmonized Tariff Schedule of the United States (“HTSUS”) subheadings: 4412.31.0520; 4412.31.0540; 4412.31.0560; 4412.31.2510; 4412.31.2520; 4412.31.4040; 4412.31.4050; 4412.31.4060; 4412.31.4070; 4412.31.4075; 4412.31.4080; 4412.31.5125; 4412.31.5135; 4412.31.5155; 4412.31.5165; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500.

³ See Memorandum from Christian Marsh, Deputy Assistant Secretary for Antidumping and Countervailing Duty Operations, to Paul Piquado, Assistant Secretary for Enforcement and Compliance “Final Results of the 2011-2012 Antidumping Administrative Review of Multilayered Wood Flooring from the People's Republic of China: Allegations of Ministerial Errors,” (“Ministerial Error Memorandum”) issued concurrently with this notice for a full description of the Scope of the Order.

The HTSUS subheadings are provided for convenience and customs purposes only; the written description of the scope of the order is dispositive.

Ministerial Errors

Section 751(h) of the Tariff Act of 1930, as amended (“the Act”), and 19 CFR 351.224(f) define a “ministerial error” as an error “in addition, subtraction, or other arithmetic function, clerical error resulting from inaccurate copying, duplication, or the like, and any similar type of unintentional error which the Secretary considers ministerial.” After analyzing the ministerial error comments and rebuttal comments, we determined, in accordance with section 751(h) of the Act and 19 CFR 351.224(e), that we made ministerial errors in our calculation for the Final Results. For a detailed discussion of the alleged ministerial errors, as well as the Department's analysis, see Memorandum to Lynn Fischer Fox, Deputy Assistant Secretary for Policy and Negotiations from Christian Marsh, Deputy Assistant Secretary for Antidumping and Countervailing Duty Operations, “Antidumping Duty Administrative Review: Final Results of the 2011-2012 Antidumping Administrative Review of Multilayered Wood Flooring from the People's Republic of China: Allegations of Ministerial Errors,” dated concurrently with this notice which is hereby adopted by this notice. The Ministerial Error Memorandum is a public document and is on file electronically via Enforcement and Compliance's Antidumping and Countervailing Duty Centralized Electronic Service System (“IA ACCESS”). IA ACCESS is available to registered users at http://iaaccess.trade.gov and in the Central Records Unit, room 7046 of the main Department of Commerce building. In addition, a complete version of the Ministerial Error Memorandum can be accessed directly on the Internet at http://enforcement.trade.gov/frn. The signed Ministerial Error Memorandum and the electronic versions of the Ministerial Error Memorandum are identical in content. A list of the ministerial error allegations that parties raised and to which we responded in the Ministerial Error Memorandum follows as an appendix to this notice.

In accordance with section 751(h) of the Act and 19 CFR 351.224(e), we are amending the Final Results for Fine Furniture. The revised weighted-average dumping margin for Fine Furniture is detailed below. Fine Furniture was the only mandatory respondent with a weighted-average dumping margin above de minimis; therefore, the separate rate respondents were assigned a weighted-average dumping margin equal to that of Fine Furniture.⁴ Consequently, we also revised the weighted-average dumping margin for the separate rate respondents. The weighted-average dumping margin for the PRC-wide entity is not changing as a result of these amended final results.

⁴ See Multilayered Wood Flooring From the People's Republic of China: Final Results of Antidumping Duty Administrative Review; 2011-2012, 79 FR 26712 (May 9, 2014), at 26715.

Amended Final Results of Administrative Review

The amended weighted-average dumping margins are as follows:

Exporter | Weighted-Average dumping margin
Armstrong Wood Products (Kunshan) Co., Ltd | 0.00
Nanjing Minglin Wooden Industry Co. Ltd | 0.00
Fine Furniture (Shanghai) Limited or Double F Limited | 5.92
Anhui Longhua Bamboo Product Co., Ltd | 5.92
A&W (Shanghai) Woods Co., Ltd | 5.92
Baishan Huafeng Wood Product Co., Ltd | 5.92
Benxi Wood Company | 5.92
Changbai Mountain Development and Protection Zone Hongtu Wood Industrial Co., Ltd | 5.92
Chinafloors Timber (China) Co., Ltd | 5.92
Dalian Dajen Wood Co., Ltd | 5.92
Dalian Huilong Wooden Products Co., Ltd | 5.92
Dalian Kemian Wood Industry Co., Ltd | 5.92
Dalian Penghong Floor Products Co., Ltd | 5.92
Dasso Industrial Group Co., Ltd | 5.92
Dongtai Fuan Universal Dynamics, LLC | 5.92
Dunhua City Hongyuan Wood Industry Co., Ltd | 5.92
Dunhua City Jisen Wood Industry Co., Ltd | 5.92
Dunhua City Wanrong Wood Industry Co., Ltd | 5.92
Dunhua City Dexin Wood Industry Co., Ltd | 5.92
Dun Hua Sen Tai Wood Co., Ltd | 5.92
Fujian Wuyishan Werner Green Industry Co., Ltd | 5.92
Fusong Jinlong Group ⁵ | 5.92
GTP International | 5.92
Guangdong Fu Lin Timber Technology Limited | 5.92
Guangdong Yihua Timber Industry Co., Ltd | 5.92
Guangzhou Panyu Kangda Board Co., Ltd | 5.92
Guangzhou Panyu Southern Star Co., Ltd | 5.92
HaiLin LinJing Wooden Products, Ltd | 5.92
Hangzhou Hanje Tec Co., Ltd | 5.92
Hunchun Forest Wolf Wooden Industry Co., Ltd | 5.92
Huzhou Chenghang Wood Co., Ltd | 5.92
Huzhou Fulinmen Imp & Emp. Co., Ltd | 5.92
Huzhou Jesonwood Co., Ltd | 5.92
Huzhou Sunergy World Trade Co., Ltd | 5.92
Jiafeng Wood (Suzhou) Co., Ltd | 5.92
Jiangsu Senmao Bamboo and Wood Industry Co., Ltd | 5.92
Jiangsu Simba Flooring Industry Co., Ltd | 5.92
JiaShan FengYun Timber Company Ltd | 5.92
Jiashan HuiJiaLe Decoration Material Co., Ltd | 5.92
Jiaxing Hengtong Wood Co., Ltd | 5.92
Jilin Forest Industry Jinqiao Flooring Group Co., Ltd | 5.92
Jilin Xinyuan Wooden Industry Co., Ltd | 5.92
Karly Wood Product Limited | 5.92
Kemian Wood Industry (Kunshan) Co., Ltd | 5.92
Kunming Alston (AST) Wood Products Co., Ltd | 5.92
Kunshan Yingyi-Nature Wood Industry Co., Ltd | 5.92
Metropolitan Hardwood Floors, Inc | 5.92
Mudanjiang Bosen Wood Industry Co., Ltd | 5.92
Nakahiro Jyou Sei Furniture (Dalian) Co., Ltd | 5.92
Pinge Timber Manufacturing (Zhejiang) Co., Ltd | 5.92
Puli Trading Limited | 5.92
Scholar Home (Shanghai) New Material Co. Ltd | 5.92
Shanghai Eswell Timber Co., Ltd | 5.92
Shanghai Lairunde Wood Co., Ltd | 5.92
Shanghai Lizhong Wood Products Co., Ltd./The Lizhong Wood Industry Limited Company of Shanghai | 5.92
Shanghai New Sihe Wood Co., Ltd | 5.92
Shanghai Shenlin Corporation | 5.92
Shenyang Senwang Wooden Industry Co., Ltd | 5.92
Shenzhenshi Huanwei Woods Co., Ltd | 5.92
Suzhou Dongda Wood Co., Ltd | 5.92
Xiamen Yung De Ornament Co., Ltd | 5.92
Xuzhou Shenghe Wood Co., Ltd | 5.92
Yixing Lion-King Timber Industry Co., Ltd | 5.92
Zhejiang Biyork Wood Co., Ltd | 5.92
Zhejiang Dadongwu Greenhome Wood Co., Ltd | 5.92
Zhejiang Desheng Wood Industry Co., Ltd | 5.92
Zhejiang Fudeli Timber Industry Co., Ltd | 5.92
Zhejiang Fuma Warm Technology Co., Ltd | 5.92
Zhejiang Longsen Lumbering Co., Ltd | 5.92
Zhejiang Shiyou Timber Co., Ltd | 5.92
Zhejiang Tianzhen Bamboo & Wood Development Co., Ltd | 5.92
Zhejiang Yongyu Bamboo Joint-Stock Co., Ltd | 5.92
PRC-Wide Entity ⁶ | 58.84

Disclosure

We intend to disclose the calculations performed for these amended final results to interested parties within five days of the date of publication of this notice in accordance with 19 CFR 351.224(b).

⁵ The following companies are collectively known as The Fusong Jinlong Group (“Fusong Jinlong Group”): Dalian Qianqiu Wooden Product Co., Ltd.; Fusong Jinlong Wooden Group Co., Ltd.; Fusong Jinqiu Wooden Product Co., Ltd.; and Fusong Qianqiu Wooden Products Co., Ltd.

⁶ The following companies were named in the Initiation Notice but did not submit a certification of no shipment, separate rate application or separate rate certification; therefore the Department has determined that they are part of the PRC-wide entity: Baiying Furniture Manufacturer Co., Ltd.; Dazhuang Floor Co. (dba Dasso Industrial Group Co., Ltd.); Dunhua Jisheng Wood Industry Co., Ltd; Fu Lik Timber (HK) Co., Ltd.; Furnco International (HK) Company Limited; Fusong Qianqiu Wooden Group Co., Ltd.; Guangdong Jiasheng Timber Industry Co., Ltd.; Guanghzhou Panyu Shatou Trading Co., Ltd.; Huzhou Fuma Wood Bus. Co., Ltd.; Jiazing Brilliant Import & Export Co., Ltd.; Puli Trading Co., Ltd.; Sennorwell International Group (Hong Kong) Limited; Shanghai Demeijia Wooden Co., Ltd.; Shenyang Haobainian Wood Co.; Shenyang Sende Wood Co., Ltd.; Suzhou Anxin Weiguang Timber Co., Ltd.; Yekalon Industry, Inc.; Zhejiang AnJi XinFeng Bamboo & Wood Co., Ltd.; Zhejiang Haoyun Wood Co., Ltd.; Zhejiang Jeson Wood Co., Ltd.; and Zhejiang Jiechen Wood Industry Co., Ltd. See Initiation of Antidumping and Countervailing Duty Administrative Reviews and Request for Revocation in Part, 78 FR 6291 (January 30, 2013); see also Initiation of Antidumping and Countervailing Duty Administrative Reviews and Request for Revocation in Part, 78 FR 13633 (February 28, 2013) (“Initiation Notice”).

Assessment Rates

Pursuant to section 751(a)(2)(A) of the Act, and 19 CFR 351.212(b), the Department will determine, and U.S. Customs and Border Protection (“CBP”) shall assess, antidumping duties on all appropriate entries covered by this review. The Department intends to issue assessment instructions to CBP 15 days after the publication date of the amended final results of this administrative review.

For Armstrong, Fine Furniture, and Minglin, the Department calculated importer-specific assessment rates based on the ratio of the total amount of dumping calculated for the importer's examined sales and the total entered value of those sales. We will instruct CBP to assess antidumping duties on all appropriate entries covered by this review when the importer-specific assessment rate is not zero or de minimis (i.e., less than 0.5 percent). Where an importer-specific assessment rate is zero or de minimis, we will instruct CBP to liquidate the appropriate entries without regard to antidumping duties.

For all separate rate respondents, the Department will instruct CBP to liquidate all appropriate entries at an ad valorem rate equal to weighted-average dumping margin for each respondent listed in the amended final results of this administrative review.

On October 24, 2011, the Department announced a refinement to its assessment practice in non-market economy (“NME”) cases. Pursuant to this refinement in practice, for entries that were not reported in the U.S. sales databases submitted by companies individually examined during this review, the Department will instruct CBP to liquidate such entries at the rate for the NME-wide entity. In addition, if the Department determines that an exporter under review had no shipments of the subject merchandise, any suspended entries that entered under that exporter's case number (i.e., at that exporter's rate) will be liquidated at the rate for the NME-wide entity.⁷

⁷ For a full discussion of this practice, see Non-Market Economy Antidumping Proceedings: Assessment of Antidumping Duties, 76 FR 65694 (October 24, 2011).

Cash Deposit Requirements

The following cash deposit requirements will be effective on any entries made after the date of publication of these amended final results for all shipments of the subject merchandise entered, or withdrawn from warehouse, for consumption on or after the publication date of the amended final results of this administrative review, as provided for by section 751(a)(2)(C) of the Act: (1) For the exporters identified above, the cash deposit rate will be equal to their weighted-average dumping margin in these amended final results of review; (2) for previously investigated or reviewed PRC and non-PRC exporters that received a separate rate in a previously completed segment of this proceeding, the cash deposit rate will continue to be the existing exporter-specific rate; (3) for all PRC exporters of subject merchandise that have not been found to be entitled a separate rate, the cash deposit rate will be that for the PRC-wide entity (i.e., 58.84 percent); and (4) for all non-PRC exporters of subject merchandise which have not received their own rate, the cash deposit rate will be the rate applicable to the PRC exporter that supplied that non-PRC exporter. These deposit requirements, when imposed, shall remain in effect until further notice.

Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

These amended final results are published in accordance with sections 751(h) and 777(i)(1) of the Act.

Dated: June 16, 2014.
Lynn Fischer Fox,
Deputy Assistant Secretary for Policy and Negotiations.

Appendix—Ministerial Error Memorandum

Summary

Legal Authority

Scope of the Order

Discussion of the Allegations

Allegation 1: Conversions Used in the Valuation of Certain Inputs

Allegation 2: Basis for the VAT Calculation

Allegation 3: The Inclusion of Double F Limited in the Federal Register

Allegation 4: Whether the Department Incorrectly Treated Indirect Wages in Financial Ratio Calculations

Allegation 5: Whether the Department Incorrectly Attributed Arguments Regarding Richmond Plywood Corporation

Allegation 6: Whether the Department Incorrectly Summarized Fine Furniture's Argument Regarding Winlex

Allegation 7: Whether the Department Overlooked Record Evidence Regarding Industrial Plywood

Allegation 8: Whether the Department Used the Correct Name for Separate Rate Respondents Recommendation

[FR Doc. 2014-14491 Filed 6-19-14; 8:45 am]

BILLING CODE 3510-DS-P